DEPARTMENT OF JUSTICE

Antitrust Division

Notice Pursuant to the National Cooperative Research and Production Act of 1993—Open Axis Group, Inc.

Notice is hereby given that, on March 22, 2011, pursuant to Section 6(a) of the National Cooperative Research and Production Act of 1993, 15 U.S.C. 4301 et seq. (“the Act”), Open Axis Group, Inc. (“Open Axis”) has filed written notifications simultaneously with the Attorney General and the Federal Trade Commission disclosing changes in its membership. The notifications were filed for the purpose of extending the Act's provisions limiting the recovery of antitrust plaintiffs to actual damages under specified circumstances. Specifically, Radixx International, Orlando, FL; Everbread Limited, London, UNITED KINGDOM; AgentWare Inc., Atlanta, GA; Klee Data Systems SA, Le Plessis-Robinson, FRANCE; Alaska Airlines, Seattle, WA; Association of Retail Travel Agents-Canada, Toronto, Ontario, CANADA; and OpenJaw Technologies Ltd., Dublin, IRELAND, have been added as parties to this venture.

No other changes have been made in either the membership or planned activity of the group research project. Membership in this group research project remains open, and Open Axis intends to file additional written notifications disclosing all changes in membership.

On October 6, 2010, Open Axis filed its original notification pursuant to Section 6(a) of the Act. The Department of Justice published a notice in the Federal Register pursuant to Section 6(b) of the Act on November 16, 2010 (75 FR 70031).

The last notification was filed with the Department on December 27, 2010. A notice was published in the Federal Register pursuant to Section 6(b) of the Act February 1, 2011 (76 FR 5610).

Patricia A. Brink,
Director of Civil Enforcement, Antitrust Division.

[FR Doc. 2011-10123 Filed 4-27-11; 8:45 am]

BILLING CODE 4410-11-M